COMMISSION ON CIVIL RIGHTS

Agenda and Notice of Public Meeting of the Massachusetts Advisory Committee

Notice is hereby given, pursuant to the provisions of the rules and regulations of the U.S. Commission on Civil Rights, that a community forum of the Massachusetts Advisory Committee will begin at 1 p.m. and end at 7 p.m., Wednesday, June 9, 2004 in Room T102, MBTA Building, North Shore Community College, 300 Broad Street, Lynn, MA. The purpose of the community forum is to discuss the significance of Lynn's Voluntary Desegregation Plan and the implementation of English immersion education since the statewide passage of Question 2.

Persons desiring additional information should contact Aonghas St-Hilaire of the Eastern Regional Office, 202-376-7533 (TTY 202-376-8116). Hearing impaired persons who will attend the meeting and require the services of a sign language interpreter should contact the Eastern Regional Office at least 10 (ten) working days before the scheduled date of the community forum.

The community forum will be conducted pursuant to the provisions of the rules and regulations of the Commission.

Dated at Washington, DC, May 14, 2004.
Ivy L. Davis,
Chief, Regional Programs Coordination Unit.

[FR Doc. 04-11467 Filed 5-21-04; 8:45 am]

BILLING CODE 6335-01-P